NUCLEAR REGULATORY COMMISSION

10 CFR Part 50

[Docket No. PRM-50-116; NRC-2018-0201]

Elimination of Immediate Notification Requirements for Non-Emergency Events

AGENCY: Nuclear Regulatory Commission.

ACTION: Petition for rulemaking; notice of docketing and request for comment.

SUMMARY: The U.S. Nuclear Regulatory Commission (NRC) has received a petition for rulemaking from Bill Pitesa, of the Nuclear Energy Institute (NEI), dated August 2, 2018, requesting that the NRC amend its regulations regarding the immediate notification requirements for operating nuclear power reactors. The petition was docketed by the NRC on September 4, 2018, and has been assigned Docket No. PRM-50-116. The NRC is examining the issues raised in PRM-50-116 to determine whether they should be considered in rulemaking. The NRC is requesting public comment on this petition.

DATES: Submit comments by February 4, 2019. Comments received after this date will be considered if it is practical to do so, but the NRC is able to assure consideration only for comments received on or before this date.

ADDRESSES: You may submit comments by any of the following methods:

• Federal Rulemaking Website: Go to http://www.regulations.gov and search for Docket ID NRC-2018-0201. Address questions about NRC dockets to Carol Gallagher; telephone: 301-415-3463; email: Carol.Gallagher@nrc.gov. For technical questions, contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Daniel Doyle, Office of Nuclear Material Safety and Safeguards, U.S. Nuclear Regulatory Commission, Washington, DC 20555-0001; telephone: 301-415-3748; email: Daniel.Doyle@nrc.gov.

SUPPLEMENTARY INFORMATION:

I. Obtaining Information and Submitting Comments

A. Obtaining Information

Please refer to Docket ID NRC-2018-0201 when contacting the NRC about the availability of information for this action. You may obtain publicly-available information related to this action by any of the following methods:

• Federal Rulemaking Website: Go to http://www.regulations.gov and search for Docket ID NRC-2018-0201.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The incoming petition for rulemaking is available in ADAMS under Accession No. ML18247A204.

• NRC's PDR: You may examine and purchase copies of public documents at the NRC's PDR, Room O1-F21, One White Flint North, 11555 Rockville Pike, Rockville, Maryland 20852.

B. Submitting Comments

Please include Docket ID NRC-2018-0201 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. The Petitioner

The petition was submitted by Bill Pitesa on behalf of NEI members. Members of NEI include entities licensed to operate commercial nuclear power plants in the United States, nuclear plant designers, major architect/engineering firms, fuel fabrication facilities, nuclear materials licensees, and other organizations and entities involved in the nuclear energy industry.

III. The Petition

The petitioner is requesting that the NRC revise part 50 of title 10 of the Code of Federal Regulations (10 CFR) to remove non-emergency notification requirements from the current regulations. The petitioner contends that the elimination of non-emergency notification requirements would eliminate duplicative notifications to the NRC and reduce unnecessary burden to licensees without presenting any incremental risk to public health and safety.

IV. Discussion of the Petition

The petitioner requests that the NRC revise its regulations in 10 CFR part 50 to remove the current requirement for licensees to immediately report non-emergency events that occur at operating nuclear power reactors. The petitioner believes the regulations should be revised because licensees currently have procedures for responding to non-emergency events and ensuring that NRC resident inspectors are notified of non-emergency events independent of the requirements in § 50.72. The petitioner states that “duplicative notifications under 10 CFR 50.72 serve no safety function and are not needed to prevent or minimize possible injury to the public or to allow the NRC to take necessary action.”

The petitioner suggests that in lieu of the currently required notifications, the NRC should establish guidance for the resident inspectors that provides consistent and standard expectations for using the existing communication protocols that have proven effective from the site to the resident inspectors and, from there, on to NRC management.

The petitioner discusses the NRC's stated purpose in promulgating the non-emergency event notification requirements in § 50.72 by referring to final rules published in the Federal Register. The basis and purpose of the current requirements are primarily discussed in final rules published in the Federal Register on February 29, 1980 (45 FR 13434); August 29, 1983 (48 FR 39039); September 10, 1992 (57 FR 41378); and October 25, 2000 (65 FR 63769).¹

¹ These final rules are publicly available in the Federal Register section of the U.S. Government Publishing Office's govinfo website: https://www.govinfo.gov/app/collection/fr.

V. Request for Comment

The NRC staff is requesting the public to consider the following specific questions when commenting on this petition:

1. The NRC publishes the event notifications it receives from licensees on the NRC's public website every weekday. Do you or does your organization regularly review these event notifications? If so, please describe your use of this information and explain how the elimination of all non-emergency event notification requirements would affect you or your organization.

2. If all non-emergency event notification requirements were removed from § 50.72, the NRC would still receive licensee event reports within 60 days of discovery of the event as required by § 50.73 unless there is no corresponding § 50.73 report. These reports typically contain a more detailed account of the event and are released to the public in ADAMS after receipt. There is no corresponding § 50.73 report for § 50.72(b)(2)(xi) for a news release or notification to other government agencies, § 50.72(b)(3)(xii) for transportation of a radioactively contaminated person, and § 50.72(b)(3)(xiii) for major loss of emergency assessment capability. Would the public release of licensee event reports alone meet your needs? Please explain why or why not.

3. The petitioner asserts that the non-emergency notifications under § 50.72 “create unnecessary burdens for both the licensee and the NRC staff, and should be eliminated.” What specific provisions in § 50.72, if any, do you consider to be especially burdensome (e.g., the timing requirements for submittal of event notifications, certain types of event notifications)? Please provide a supporting justification, as appropriate.

4. The petitioner asserts that § 50.72 non-emergency notifications are contrary to the best interests of the public and are contrary to the stated purpose of the regulation. Do you agree with this assertion? Please explain why or why not.

5. Are there alternatives to the petitioner's proposed changes that would address the concerns raised in the petition while still providing timely event information to the NRC and the public? Please provide a detailed discussion of any suggested alternatives.

Dated at Rockville, Maryland, this 14th day of November, 2018.
For the Nuclear Regulatory Commission.
Annette L. Vietti-Cook,
Secretary of the Commission.

[FR Doc. 2018-25273 Filed 11-19-18; 8:45 am]

BILLING CODE 7590-01-P